DEPARTMENT OF THE INTERIOR

National Park Service

[NPS-WASO-NAGPRA-23668; PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects in consultation with the appropriate Federally recognized Indian Tribes, and has determined that a cultural affiliation between the human remains and associated funerary objects and any present-day Federally recognized Indian Tribes cannot be reasonably traced. Representatives of any Federally recognized Indian Tribe not identified in this notice that wish to request transfer of control of these human remains and associated funerary objects should submit a written request to TVA. If no additional requestors come forward, transfer of control of the human remains and associated funerary objects to the Federally recognized Indian Tribe stated in this notice may proceed.

DATES: Representatives of any Federally recognized Indian Tribe not identified in this notice that wish to request transfer of control of these human remains and associated funerary objects should submit a written request with information in support of the request to TVA at the address in this notice by September 21, 2017.

ADDRESSES: Dr. Thomas O. Maher, TVA, 400 West Summit Hill Drive, WT11D, Knoxville TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of TVA. The human remains and associated funerary objects were removed from archeological sites in Franklin County, AL.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by TVA professional staff in consultation with representatives of the Absentee-Shawnee Tribe of Indians of Oklahoma; Alabama-Coushatta Tribe of Texas (previously listed as the Alabama-Coushatta Tribes of Texas); Cherokee Nation; Coushatta Tribe of Louisiana; Eastern Band of Cherokee Indians; Mississippi Band of Choctaw Indians; Poarch Band of Creeks (previously listed as the Poarch Band of Creek Indians of Alabama); The Chickasaw Nation; The Choctaw Nation of Oklahoma; The Muscogee (Creek) Nation; The Seminole Nation of Oklahoma; and United Keetoowah Band of Cherokee Indians in Oklahoma (hereafter referred to as “The Consulted Tribes”).

History and Description of the Remains

From 1978 to 1979, human remains representing, at minimum, 31 individuals were removed from the Ricker site (1FR310) in Franklin County, AL, by the Alabama Museum of Natural History at the University of Alabama (AMNH). TVA acquired this site on August 18, 1977, for the Cedar Creek Reservoir project. Material culture recovered from this site indicates occupations during the Late Archaic (4000-1000 B.C.), Middle Woodland Lick Creek phase (A.D. 1-300), and Mississippian period (A.D. 1200-1500). The human remains are in the physical custody of AMNH and include children, juveniles, and adults. There are three individuals identified as male and 28 individuals of indeterminate sex. No known individuals were identified. No associated funerary objects are present.

Between September 3 and 18, 1973, human remains representing, at minimum, 12 individuals were removed from site 1FR528, in Franklin County, AL, by AMNH. TVA acquired this site on January 31, 1972, for the Little Bear Creek Reservoir project. Field notes indicate that the site was a stone mound that had been disturbed by looters, and no individual burial units were isolated during excavation. Sherds of limestone-tempered, fabric-marked pottery were found during the excavation and suggest the mound may have been constructed during the Middle Woodland Lick Creek phase (A.D. 1-300). The human remains are in the physical custody of AMNH and include infants, juveniles, and adults of indeterminate sex. No known individuals were identified. No associated funerary objects are present.

From May 26 to August 4, 1977, human remains representing, at minimum, 629 individuals were removed from the Johnson Mound site (1FR571) in Franklin County, AL by AMNH. TVA acquired this site on March 16, 1976, for the Cedar Creek Reservoir project. This site was a small stone mound on the edge of a high bluff in an area of limestone outcrop overlooking the Middle Cedar Creek Valley and had been extensively damaged. Two uncalibrated radiocarbon dates were derived from this site, A.D. 850 ±50 and A.D. 1070 ±70. Studies have suggested that both dates are too late and that this mound is from the Lick Creek phase (A.D. 1-300) during the Middle Woodland period. The human remains and associated funerary objects are in the physical custody of AMNH and include adults, juveniles, children, and infants of both sexes. No known individuals were identified. The 12 associated funerary objects are 1 crinoid stem; 9 shell beads; 1 shell gorget; and 1 soil sample.

Determinations Made by the Tennessee Valley Authority

Officials of TVA have determined that:

• Pursuant to 25 U.S.C. 3001(9), the human remains described in this notice are Native American based on their presence in prehistoric archeological sites and osteological analysis.

• Pursuant to 25 U.S.C. 3001(9), the human remains described in this notice represent the physical remains of 672 individuals of Native American ancestry.

• Pursuant to 25 U.S.C. 3001(3)(A), the 12 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Cherokee Nation; Eastern Band of Cherokee Indians; and United Keetoowah Band of Cherokee Indians in Oklahoma.

• The Treaty of September 20, 1816, indicates that the land from which the Native American human remains were removed is the aboriginal land of The Chickasaw Nation.

• Pursuant to 43 CFR 10.11(c)(1)(ii), the disposition of the human remains may be to the Cherokee Nation; Eastern Band of Cherokee Indians; The Chickasaw Nation; and United Keetoowah Band of Cherokee Indians in Oklahoma. The Cherokee Nation; Eastern Band of Cherokee Indians; and United Keetoowah Band of Cherokee Indians in Oklahoma have declined to accept transfer of control of the human remains.

• Pursuant to 43 CFR 10.11(c)(4), TVA has decided to transfer control of the funerary objects associated with the culturally unidentifiable human remains to The Chickasaw Nation.

Additional Requestors and Disposition

Representatives of any Federally recognized Indian Tribe not identified in this notice that wish to request transfer of control of these human remains and associated funerary objects should submit a written request with information in support of the request to Dr. Thomas O. Maher, TVA, 400 West Summit Hill Drive, WT11D, Knoxville, TN 37902-1401, telephone (865) 632-7458, email tomaher@tva.gov, by September 21, 2017. After that date, if no additional requestors have come forward, transfer of control of the human remains and associated funerary objects to The Chickasaw Nation may proceed.

The TVA is responsible for notifying The Consulted Tribes that this notice has been published.

Dated: June 28, 2017.
Melanie O'Brien,
Manager, National NAGPRA Program.

[FR Doc. 2017-17700 Filed 8-21-17; 8:45 am]

BILLING CODE 4312-52-P